ENVIRONMENTAL PROTECTION AGENCY

[FRL-8516-7]

Proposed CERCLA Administrative Cost Recovery Settlement; Columbia American Plating Company Site

AGENCY: Environmental Protection Agency.

ACTION: Notice; request for public comment.

SUMMARY: In accordance with section 122(i) of the Comprehensive Environmental Response, Compensation, and Liability Act, as amended (CERCLA), 42 U.S.C. 9622(i), notice is hereby given of a proposed administrative settlement for recovery of past response costs concerning the COLUMBIA AMERICAN PLATING COMPANY Time-Critical Removal Site in Portland, Oregon, with the following settling parties: LAKEA CORPORATION (dba Columbia American Plating Company) and LARRY ANSON, an individual. The settlement requires the settling parties to pay: $15,000.00 to the EPA Hazardous Substance Superfund; the net sale proceeds from selling the site if the settling parties are able to redeem the property out of foreclosure from Multnomah County; and assignment of all rights to insurance claims proceeds to EPA. The settlement includes a covenant not to sue the settling party pursuant to Sections 106 and 107(a) of CERCLA, 42 U.S.C. 9606 and 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the U.S. EPA Region 10 offices, located at 1200 Sixth Avenue, Seattle, Washington 98101.

DATES: Comments must be submitted on or before February 14, 2008.

ADDRESSES: The proposed settlement is available for public inspection at the U.S. EPA Region 10 offices, located at 1200 Sixth Avenue, Seattle, Washington 98101. A copy of the proposed settlement may be obtained from Carol Kennedy, Regional Hearing Clerk, U.S. EPA Region 10, 1200 Sixth Avenue, Suite 900, Mail Stop ORC-158, Seattle, Washington 98101; (206) 553-0242. Comments should reference the COLUMBIA AMERICAN PLATING Time-Critical Removal Site in Portland, Oregon. EPA Docket No. CERCLA-10-2008-0048 and should be addressed to Lori Cora, Assistant Regional Counsel, U.S. EPA Region 10, Mail Stop ORC-158, 1200 Sixth Avenue, Suite 900, Seattle, Washington 98101.

FOR FURTHER INFORMATION CONTACT: Lori Cora, Assistant Regional Counsel, U.S. EPA Region 10, Mail Stop ORC-158, 1200 Sixth Avenue, Suite 900, Seattle, Washington 98101; (206) 553-1115.

SUPPLEMENTARY INFORMATION: The COLUMBIA AMERICAN PLATING Site is located at 3003 NW. 35th Avenue, Portland, Oregon (Site). LAKEA CORPORATION (dba as COLUMBIA AMERICAN PLATING) operated a metal plating business.

In May 2003, in response to a request from the State of Oregon's Department of Environmental Quality's Emergency Response and Removal Program, EPA assisted in evaluating and mitigating the imminent threat to human health and the environment posed by hazardous substances and chemicals stored or otherwise handled at the Site. EPA removed approximately 80,000 gallons and 78,260 pounds of hazardous and non-hazardous waste located in tanks, drums, containers, sumps, and secondary containment systems for proper off-site treatment and disposal. EPA also conducted soil, groundwater, and surface water sampling at the Site. The removal was completed in 2004.

This settlement requires LAKEA CORPORATION and LARRY ANSON to pay: $15,000.00 to the EPA Hazardous Substance Superfund; the net sale proceeds from selling the site if the settling parties are able to redeem the property out of foreclosure from Multnomah County; and assignment of all rights to insurance claims proceeds to EPA. This is in settlement of the approximately $1.8 million in past costs incurred by EPA at the Site.

Dated: December 20, 2007.
Michael F. Gearheard,
Director of Office of Water and Watersheds.

[FR Doc. E8-599 Filed 1-14-08; 8:45 am]

BILLING CODE 6560-50-P